ENVIRONMENTAL PROTECTION AGENCY

[FRL-7583-4]

Administrative Order on Consent for Removal Action, Northwest Oil Drain Superfund Site, Salt Lake City, UT

AGENCY: Environmental Protection Agency (U.S. EPA).

ACTION: Administrative order on consent.

SUMMARY: In accordance with the requirements of the Comprehensive Environmental Response, Compensation, and Liability Act, as amended (“CERCLA”), 42 U.S.C. 9601 et seq., notice is hereby given of an Administrative Order On Consent For Removal Action (“Order”), Northwest Oil Drain Superfund Site, Salt Lake City, UT. This Order provides for the performance of the Work by each Respondent (Salt Lake City Corporation (City), Salt Lake County (County), BP Amoco and Chevron Products Co. (Chevron)) and for the reimbursement of certain response costs incurred by the United States in connection with the property, known as the “Northwest Oil Drain Site” or “NWOD” or the “Site”. The Respondents to this Order formed the Northwest Oil Drain Working group to study and implement a removal action at the Site. The total estimated capital cost for the removal action is approximately $5,102,700.00. The costs will be fully funded by the Respondents. Additionally, the Respondents will pay $200,000.00 for past costs incurred by EPA.

The NWOD is located in northern Salt Lake and in Davis Counties, northwest of downtown Salt Lake City, Utah. The NWOD is a series of former and existing unlined canals consisting of two systems, the 8.6 mile north west flowing and open section and the non-flowing section ¼ mile long). The NWOD was constructed in the 1920's and was used to convey stormwater and industrial and municipal discharges into the Great Salt Lake. The sludge/sediment in the NWOD contains elevated concentrations of organics and metals. The removal action consists of the complete physical removal of sediments from the Northwest Oil Drain. Some of these sediments will be deposited in a regulated land farm while other sediments will be side-cast in nearby agricultural and rangelands. The non-flowing section of the canal (¼ mile section) will be backfilled with clean fill material.

DATES: Comments must be submitted to EPA on or before 30 days from date of publication.

ADDRESSES: Comments should be addressed to Nancy A. Mangone, (8ENF-L), Enforcement Attorney, U.S. Environmental Protection Agency, Region VIII, 999 18th Street, Suite 300, Denver, Colorado 80202-2466, and should refer to: In the Matter of: Administrative Order On Consent For Removal Action, Northwest Oil Drain Superfund Site, Salt Lake City, UT.

FOR FURTHER INFORMATION CONTACT: Nancy A. Mangone, (8ENF-L), Enforcement Attorney, U.S. Environmental Protection Agency, Region VIII, 999 18th Street, Suite 300, Denver, Colorado, 80202-2466, (303) 312-6903.

Dated: October 16, 2003.
Andrew M. Gaydosh,
Acting Assistant Regional Administrator, Office of Enforcement, Compliance and Environmental Justice.

[FR Doc. 03-28105 Filed 11-6-03; 8:45 am]

BILLING CODE 6560-50-P